ENVIRONMENTAL PROTECTION AGENCY

40 CFR Part 63

[EPA-HQ-OAR-2002-0021; FRL-9948-27-OAR]

RIN 2060-AN36

National Emission Standards for Hazardous Air Pollutants: Site Remediation

AGENCY: Environmental Protection Agency (EPA).

ACTION: Proposed rule; extension of comment period.

SUMMARY: On May 13, 2016, the Environmental Protection Agency (EPA) proposed a rule titled, “National Emission Standards for Hazardous Air Pollutants (NESHAP): Site Remediation.” The EPA is extending the comment period on the proposed rule that was scheduled to close on June 27, 2016, by thirty days. The EPA has received letters from trade organizations and calls from business organizations requesting additional time to review and comment on the proposed rule revisions.

DATES: The public comment period for the proposed rule published in the Federal Register on May 13, 2016 (81 FR 529821), is being extended. Written comments must be received on or before July 27, 2016.

ADDRESSES: The EPA has established docket for the proposed rulemaking (available at http://www.regulations.gov). The Docket ID No. is EPA-HQ-OAR-2002-0021. Information on this action is posted at http://www.epa.gov/ttn/atw/siterm/sitermpg.html. Submit your comments, identified by the appropriate Docket ID, to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. If you need to include CBI as part of your comment, please visit http://www.epa.gov/dockets/comments.html for instructions. Multimedia submissions (audio, video, etc.) must be accompanied by a written comment. The written comment is considered the official comment and should include discussion of all points you wish to make.

For additional submission methods, the full EPA public comment policy, and general guidance on making effective comments, please visit http://www.epa.gov/dockets/comments.html.

FOR FURTHER INFORMATION CONTACT: For additional information on this action, contact Paula Hirtz, Refining and Chemicals Group, Sector Policies and Programs Division (E143-01), Environmental Protection Agency, Research Triangle Park, NC 27711; telephone number: (919) 541-2618; fax number: (919) 541-0246; email address: hirtz.paula@epa.gov.

SUPPLEMENTARY INFORMATION: After considering the requests to extend the public comment period received from trade and business organizations, the EPA has decided to extend the public comment period until July 27, 2016. This extension will ensure that the public has additional time to review and comment on the proposed rule.

Dated: June 17, 2016.
Stephen D. Page,
Director, Office of Air Quality Planning and Standards.

[FR Doc. 2016-15012 Filed 6-23-16; 8:45 am]

BILLING CODE 6560-50-P